ENVIRONMENTAL PROTECTION AGENCY

[ER-FRL-9053-3]

Environmental Impact Statements; Notice of Availability

Responsible Agency: Office of Federal Activities, General Information 202-564-5632 or https://www.epa.gov/nepa.

Weekly receipt of Environmental Impact Statements (EIS)

Filed September 28, 2020 10 a.m. EST Through October 5, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200197, Final, TVA, IL, Sugar Camp Energy, LLC Mine Number 1 Boundary Revision 6, Review Period Ends: 11/09/2020, Contact: Elizabeth Smith 865-632-3053.

EIS No. 20200198, Final, TxDOT, TX, North Houston Highway Improvement Project, Review Period Ends: 11/09/2020, Contact: Carlos Swonke 512-416-2734.

EIS No. 20200199, Draft, USA, AK, Heat and Electrical Upgrades at Fort Wainwright, Alaska, Comment Period Ends: 12/08/2020, Contact: Laura Sample 907-361-6323.

EIS No. 20200200, Final, USFS, NV, Lee Canyon EIS, Review Period Ends: 11/09/2020, Contact: Jonathan Stein 702-515-5418.

EIS No. 20200201, Draft, FHWA, GA, Project DeRenne Draft Environmental Impact Statement and Draft Section 4(f) Evaluation, Comment Period Ends: 11/23/2020, Contact: Aaron Hernandez 404-562-3584. Amended Notice:

EIS No. 20200170, Draft, FAA, NY, LaGuardia Airport Access Improvement Project, Comment Period Ends: 10/20/2020, Contact: Andrew Brooks 718-553-2511.

Revision to FR Notice Published 08/21/2020; Extending the Comment Period from 10/05/2020 to 10/20/2020.

Dated: October 5, 2020.
Cindy S. Barger,
Director, NEPA Compliance Division, Office of Federal Activities.

[FR Doc. 2020-22395 Filed 10-8-20; 8:45 am]

BILLING CODE 6560-50-P